DEPARTMENT OF THE INTERIOR

Bureau of Land Management

[LLNMA02000-L1430000.ET0000; NMNM77967]

Notice of Proposed Withdrawal Extension and Opportunity for Public Meeting, New Mexico

AGENCY: Bureau of Land Management, Interior.

ACTION: Notice.

SUMMARY: The Assistant Secretary of the Interior for Land and Minerals Management proposes to extend the duration of Public Land Order (PLO) No. 6845 for an additional 20-year term. PLO No. 6845 withdrew 200 acres of public land from settlement, sale, location, or entry under the general land laws, including the United States mining laws, to protect the archaeological values at the Arroyo del Tajo Pictograph Site. This notice gives an opportunity to comment on the proposed action and request a public meeting.

DATES: Comments and requests for a public meeting must be received by March 17, 2011.

ADDRESSES: Comments and meeting requests should be sent to the Bureau of Land Management (BLM) Socorro Field Office Field Manager, 901 S. Hwy 85, Socorro, New Mexico 87801.

FOR FURTHER INFORMATION CONTACT: Ann D. Sullivan, BLM Socorro Field Office, 901 S. Hwy 85, Socorro, New Mexico 87801, or at 575-835-0412.

SUPPLEMENTARY INFORMATION: The withdrawal created by PLO No. 6845 (56 FR 14865 (1991)) will expire April 11, 2011, unless extended. PLO No. 6845 is incorporated herein by reference. The BLM has filed a petition/application to extend PLO No. 6845 for an additional 20-year term. The withdrawal was made to protect the archaeological values at the Arroyo del Tajo Pictograph Site and surrounding area from deterioration, for research purposes, and for interpretation as described in the PLO. The area aggregates 200 acres in Socorro County, New Mexico.

The use of a right-of-way, interagency, or cooperative agreement would not adequately constrain nondiscretionary uses which could result in the permanent loss of significant values and irreplaceable cultural resources.

No water rights would be needed to fulfill the purpose of the requested withdrawal extension.

There are no suitable alternative sites available since the lands described herein have specific archaeological values that are not found in any nearby areas.

Records relating to the application may be examined by contacting Ann D. Sullivan or Danita Burns of the BLM Socorro Field Office at the above address or phone number.

For a period of 90 days from the date of publication of this notice, all persons who wish to submit comments, suggestions, or objections in connection with the proposed withdrawal extension may present their views in writing to the BLM Socorro Field Office Field Manager at the address noted above. Comments, including names and street addresses of respondents, will be available for public review at the BLM Socorro Field Office during regular business hours, which are 7:45 a.m. to 4:30 p.m., Monday through Friday, except holidays.

Individual respondents may request confidentiality. Before including your address, phone number, email address, or other personal identifying information in your comment, be advised that your entire comment—including your personal identifying information—may be made publicly available at any time. While you can ask in your comment to withhold from public review your personal identifying information, we cannot guarantee that we will be able to do so.

Notice is hereby given that an opportunity for a public meeting is afforded in connection with the proposed withdrawal extension. All interested persons who desire a public meeting for the purpose of being heard on the proposed extension must submit a written request to the BLM Socorro Field Office Field Manager at the address above within 90 days from the date of publication of this notice. If the authorized officer determines that a public meeting will be held, a notice of the time and place of any public meetings will be published in the Federal Register and at least one local newspaper at least 30 days before the scheduled date of the meeting.

This application will be processed in accordance with the regulations set forth in 43 CFR 2310.4.

Authority: 43 CFR 2310.3-1;2310.4.

Danita Burns,
Field Manager, BLM Socorro Field Office.

[FR Doc. 2010-31701 Filed 12-16-10; 8:45 am]

BILLING CODE 4310-MW-P